DEPARTMENT OF ENERGY

Federal Energy Regulatory Commission

[Docket No. IC20-5-000]

Commission Information Collection Activities (FERC-923); Comment Request

AGENCY: Federal Energy Regulatory Commission.

ACTION: Request of reinstatement with changes.

SUMMARY: In compliance with the requirements of the Paperwork Reduction Act of 1995, the Federal Energy Regulatory Commission (Commission or FERC) is requesting that the Office of Management and Budget (OMB) reinstate FERC-923 (Communication of Operational Information between Natural Gas Pipelines and Electric Transmission Operators, OMB control number 1902-0265).

DATES: Comments on this notice must be received by April 8, 2020.

ADDRESSES: Send written comments on FERC-923 to OMB by email at OIRA_Submission@omb.eop.gov. Attention: Federal Energy Regulatory Commission Desk Officer. Please identify the OMB control number (1902-0265) in the subject line of your comments.

Please provide a copy of your comments to the Commission by either of the following methods:

• eFiling at the Commission's website: http://www.ferc.gov/docs-filing/efiling.asp; or

• Mail/Hand Delivery/Courier: Federal Energy Regulatory Commission, Secretary of the Commission, 888 First Street NE, Washington, DC 20426

Please identify the following numbers in the title or subject line of your comments: FERC-923, OMB Control Number 1902-0265.

Instructions: All submissions to the Commission must be formatted and filed in accordance with submission guidelines at: http://www.ferc.gov/help/submission-guide.asp. For user assistance contact FERC Online Support by email at ferconlinesupport@ferc.gov, or by phone at: (866) 208-3676 (toll-free), or (202) 502-8659 for Text Telephone (TTY).

Docket: Users interested in receiving automatic notification of activity in this docket or in viewing/downloading comments and issuances in this docket may do so at http://www.ferc.gov/docs-filing/docs-filing.asp.

FOR FURTHER INFORMATION CONTACT: Ellen Brown by email at DataClearance@FERC.gov, or by telephone at (202) 502-8663.

SUPPLEMENTARY INFORMATION: Type of Request: Reinstatement of FERC-923 for 3 years.

Title: FERC-923, Communication of Operational Information between Natural Gas Pipelines and Electric Transmission Operators.

OMB Control No.: 1902-0265.

Abstract: The regulations that authorize FERC-923 (18 CFR 38.2 and 284.12(b)(4)(i)) eliminate actual and perceived prohibitions against the voluntary sharing of non-public, operational information between natural gas pipelines and public utilities. FERC promulgated those regulations in order to promote reliability of service. FERC-923 does not involve submission of information to FERC.

The expiration date of FERC-923 was January 31, 2020. FERC initiated the renewal process for FERC-923 on December 30, 2019, by publishing a 60-day notice (84 FR 71912). That notice provided for a comment period that ended on February 28, 2020. No comments were received.

On January 28, 2020, FERC sent OMB a request for a 3-month emergency extension of the expiration date in order to continue the renewal process. In addition, FERC published a notice of the emergency extension request on February 4, 2020 (85 FR 6153). OMB disapproved the request for an emergency extension on February 4, 2020. FERC now seeks reinstatement with changes, and once again invites public comment in this notice.

The changes consist of revised burden estimates due in part to adjustments of the burdens that OMB approved in 2017. These changes are based on normal market fluctuation. In addition, the previously approved burden estimates are not in effect at present because of OMB's February 4, 2020 disapproval of FERC's request for an emergency extension on February 4, 2020.

The net effect of reinstatement is outlined below. The requested changes are not a result of any program change or change in reporting/recordkeeping requirements.

Estimate of Annual Burden ¹: The total estimated annual burden for respondents is:

¹ “Burden” is the total time, effort, or financial resources expended by persons to generate, maintain, retain, or disclose or provide information to or for a Federal agency. For further explanation of what is included in the estimated burden, refer to Title 5 Code of Federal Regulations 1320.3.

• 4,152 responses;

• 2,076 burden hours; and

• $166,080.

The following table shows the pertinent calculations:

A. Initiator of communication | B. Number of respondents | C. Annual number of responses per respondent | D. Total number of responses | E. Average burden hrs. & cost per response ² | F. Total annual hr. burdens & total annual cost | G. Cost per respondent
|  |  | (Column B × Column C) |  | (Column D × Column E) | (Column F ÷ Column B)
Public Utility Transmission Operators | 165 | 12 | 1,980 | 0.5 hrs.; $40 | 990 hrs.; $79,200 | $480
Interstate Natural Gas Pipelines | 181 | 12 | 2,172 | 0.5 hrs.; $40 | 1,086 hrs.; $86.880 | 480
Totals | 346 |  | 4,152 |  | 2,076 hrs.; $166,080 |

² Commission staff estimates that the respondents' skill set (and wages and benefits) for FERC-923 are comparable to those of FERC employees. Based on the Commission's Fiscal Year 2019 average cost of $167,091/year (for wages plus benefits, for one full-time employee), $80.00/hour is used.

Comments: Comments are invited on: (1)Whether FERC-923 is necessary for the proper performance of the functions of the Commission, including whether the information will have practical utility; (2) the accuracy of the agency's estimate of the burden and cost of FERC-923, including the validity of the methodology and assumptions used; (3) ways to enhance the quality, utility and clarity of FERC-923; and (4) ways to minimize the burden of FERC-923 on those who are to respond, including the use of automated techniques or other forms of information technology.

Dated: March 3, 2020.
Kimberly D. Bose,
Secretary.

[FR Doc. 2020-04738 Filed 3-6-20; 8:45 am]

BILLING CODE 6717-01-P